DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before February 12, 2020. Address written comments to Statutory Import Programs Staff, Room 3720, U.S. Department of Commerce, Washington, DC 20230. Applications may be examined between 8:30 a.m. and 5:00 p.m. at the U.S. Department of Commerce in Room 3720.

Docket Number: 19-012. Applicant: University of Minnesota, 116 Union Street SE, Minneapolis, MN 55455. Instrument: Photomultiplier tube. Manufacturer: Hainan Zhanchuange Photonics Technology, China. Intended Use: The instrument will be used to study the properties of neutrino oscillation. Neutrinos are very hard to detect and require several thousand tonnes of target material to have any chance of seeing the neutrino interactions. The CHIPS detector is a pilot project which aims to reduce the cost of neutrino experimentation by around a factor of fifty. This is done by reducing the structural engineering and installing the detector in a lake, where students can exploit the buoyancy of the used materials. Photomultipliers are highly sensitive light detectors able to detect light at the single photon level; these will be installed in a large 25 meter diameter cylindrical detector filled with water. This experiment is built employing several physics graduate students and provides work experience for many physics and engineering undergraduates. Justification for Duty-Free Entry: There are no instruments of the same general category manufactured in the United States. Application accepted by Commissioner of Customs: June 28, 2019.

Docket Number: 19-013. Applicant: University of Minnesota, 116 Union Street SE, Minneapolis, MN 55455. Instrument: Photomultiplier tube. Manufacturer: Hainan Zhanchuange Photonics Technology, China. Intended Use: The instrument will be used to study the properties of neutrino oscillation. Neutrinos are very hard to detect and require several thousand tonnes of target material to have any chance of seeing the neutrino interactions. The CHIPS detector is a pilot project for which aims to reduce the cost of neutrino experimentation by around a factor of fifty. This is done by reducing the structural engineering and installing the detector in a lake, where students can exploit the buoyancy of the used materials. Photomultipliers are highly sensitive light detectors able to detect light at the single photon level; these will be installed in a large 25 meter diameter cylindrical detector filled with water. This experiment is built employing several physics graduate students and provides work experience for many physics and engineering undergraduates. Justification for Duty-Free Entry: There are no instruments of the same general category manufactured in the United States. Application accepted by Commissioner of Customs: June 28, 2019.

Dated: January 15, 2020.
Gregory W. Campbell,
Director, Subsidies Enforcement, Enforcement and Compliance.

[FR Doc. 2020-01081 Filed 1-22-20; 8:45 am]

BILLING CODE 3510-DS-P